DEPARTMENT OF HEALTH AND HUMAN SERVICES

45 CFR Part 170

Health Information Technology Standards, Implementation Specifications, and Certification Criteria and Certification Programs for Health Information Technology

CFR Correction

This rule is being published by the Office of the Federal Register to correct an editorial or technical error that appeared in the most recent annual revision of the Code of Federal Regulations.

In Title 45 of the Code of Federal Regulations, Parts 140 to 199, revised as of October 1, 2023, amend section 170.580 by reinstating paragraph (a)(3)(ii) to read as follows:

§ 170.580 ONC review of certified health IT.

* * * * *

(a) * * *

(3) * * *

(ii) ONC may assert exclusive review of certified health IT as to any matters under review by ONC and any similar matters under surveillance by an ONC-ACB.

* * * * *

[FR Doc. 2024-02940 Filed 2-9-24; 8:45 am]

BILLING CODE 0099-10-P